DEPARTMENT OF COMMERCE

Economic Development Administration

Notice of Petitions by Producing Firms for Determination of Eligibility To Apply for Trade Adjustment Assistance

AGENCY: Economic Development Administration (EDA).

ACTION: To give firms an opportunity to comment.

Petitions have been accepted for filing on the dates indicated from the firms listed below.

List of Petition Action by Trade Adjustment Assistance for Period 6/19/01-7/16/01

Firm name | Address | Date petition accepted | Product
Chami Design, Inc | 725 East 25th Street, Tacoma, WA 98421 | 06/25/01 | Fleece jackets & toys.
W. Kintz Plastics, Inc | 1 Caverns Road, Howes Cave, NY 12092 | 06/27/01 | Thermoformed, machined & fabricated work station table tops & console doors of plastic.
Hydroacoustics, Inc | 999 Lehigh Station Road, Rochester, NY 14692 | 06/27/01 | Underwater hydraulic & acoustic systems.
American Hofmann, Inc | 3700 Cohen Place, Lynchburg, VA 24506 | 06/27/01 | Precision hard bearing balancing machines.
Meramec Group, Inc. (The) | 338 Ramsey Street, Sullivan, MO 63080 | 06/27/01 | Polyurethane shoe outsoles.
Complete Packaging Corporation | 2001 Hutchings, Ballinger, TX 76821 | 06/28/01 | Corrugated boxes.
Ranchers Lamb of Texas | 1005 City Farm Road, San Angelo, TX 76905 | 06/28/01 | Lamb meat.
Pratt & Austin Company, Inc | 642 South Summer Street, Holyoke, MA 01040 | 06/28/01 | Greeting & post cards.
Gammapar LLC | 1191 Venture Drive, Forest, VA 24551 | 06/28/01 | Wood flooring.
B & P Industrial, Inc. dba Remwood Products | 4649 83rd East Avenue, Tulsa, OK 74145 | 06/29/01 | Window detergent.
Roperunner, Inc | 7011 East 40th Street, Tulsa, OK 74145 | 06/28/01 | Footwear of outer soles of rubber for women.
Phi Technologies | 4605 North Stiles, Oklahoma City, OK 73105 | 06/29/01 | Audio tape recorder player equipment.
Cherokee Process Color, Inc | 1715 East 2nd Street, Tulsa, OK 74145 | 06/29/01 | Display posters.
By Prather, Inc | 200 South Main, Moorland, OK 73852 | 06/29/01 | Billiard cues & parts.
Conrad-Jarvis Corporation | 217 Conant Street, Pawtucket, RI 02862 | 07/02/01 | Braided, non-braided, woven & knit narrow fabrics of elastic & non-elastic material.
Floral Resources/Hawaii, Inc | 175 East Kawailani Street, Hilo, HI 96720 | 07/03/01 | Tropical flowers, anthuriums & orchids, & foliage.
R & D Circuits, Inc | 9 Olsen Avenue, Edison, NJ 08846 | 07/16/01 | Printed circuit boards.
Oconomowoc Manufacturing Corp | 425 S. Lapham, Street Oconomowoc, WI 53066 | 07/16/01 | Ball bearings.
Stronglite, Inc | 255 Davidson Street, Cottage Grove, OR 97424 | 07/16/01 | Wood & metal tables & chairs used in the massage industry.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, D.C. 20230, no later than the close of business of the tenth calendar day following the publication of this notice.

The Catalog of Federal Domestic Assistance official program number and title of the program under which these petitions are submitted is 11.313, Trade Adjustment Assistance.

Dated: July 17, 2001.
Anthony J. Meyer,
Coordinator, Trade Adjustment and Technical Assistance.

[FR Doc. 01-18461 Filed 7-24-01; 8:45 am]

BILLING CODE 3510-24-P